DEPARTMENT OF LABOR

Employment and Training Administration

[TA-W-75,183]

Reynolds Food Packaging LLC, a Subsidiary of Reynolds Group Holding Limited, Grove City, PA; Notice of Revised Determination on Reconsideration

On June 6, 2011, the Department of Labor (Department) issued a Notice of Affirmative Determination Regarding Application for Reconsideration to apply for Trade Adjustment Assistance (TAA) applicable to workers and former workers of Reynolds Food Packaging LLC, a subsidiary of Reynolds Group Holding Limited, Grove City, Pennsylvania (subject firm). Workers at the subject firm are engaged in employment related to the production of disposable food service containers and bulk sheet.

During the reconsideration investigation, the Department received new information that revealed that there has been a shift in a portion of production of disposable food service containers and bulk sheet by the subject firm to a foreign country.

Criterion I has been met because a significant number or proportion of the workers in the workers' firm have become totally or partially separated, or are threatened to become totally or partially separated.

Criterion II has been met because there has been a shift in production of disposable food service containers and bulk sheet by the subject firm to a foreign country.

Criterion III has been met because the shift in production to a foreign country contributed importantly to worker group separations at the subject firm.

Conclusion

After careful review of the additional facts obtained on reconsideration, I determine that workers and former workers of the subject firm, who are engaged in employment related to the production of disposable food service containers or bulk sheet, meet the worker group certification criteria under Section 222(a) of the Act, 19 U.S.C. 2272(a). In accordance with Section 223 of the Act, 19 U.S.C. 2273, I make the following certification:

All workers of Reynolds Food Packaging LLC, a subsidiary of Reynolds Group Holding Limited, Grove City, Pennsylvania, who became totally or partially separated from employment on or after January 26, 2010, through two years from the date of this revised certification, and all workers in the group threatened with total or partial separation from employment on date of certification through two years from the date of certification, are eligible to apply for adjustment assistance under Chapter 2 of Title II of the Trade Act of 1974, as amended.

Signed in Washington, DC, this 26th day of August, 2011.
Del Min Amy Chen,
Certifying Officer, Office of Trade Adjustment Assistance.

[FR Doc. 2011-22558 Filed 9-1-11; 8:45 am]

BILLING CODE 4510-FN-P